DEPARTMENT OF ENERGY

Federal Energy Regulatory Commission

[Docket No. CP06-365-000; Docket No. CP06-366-000]

Bradwood Landing, LLC, NorthernStar Energy, LLC; Notice of Additional Public Meetings to Take Comments on the Draft Environmental Impact Statement for the Proposed Bradwood Landing LNG Project

October 25, 2007.

The staff of the Federal Energy Regulatory Commission (FERC or Commission) is issuing this notice to announce two additional public meetings in Oregon to take comments on the draft Environmental Impact Statement (EIS) issued by the FERC on August 17, 2007 for the proposed Bradwood Landing liquefied natural gas (LNG) Project. The draft EIS addresses the proposal by Bradwood Landing, LLC to construct and operate an LNG import terminal in Clatsop County, Oregon, about 38 miles up the Columbia River from its mouth, and the associated 36-mile-long natural gas sendout pipeline proposed by NorthernStar Energy, LLC that would cross portions of Clatsop and Columbia Counties, Oregon, and Cowlitz County, Washington, to connect the Bradwood Landing LNG terminal with the existing Williams Northwest Pipeline Company interstate pipeline system near Kelso, Washington.

On October 5, 2007, the FERC issued a notice for four public meetings to be held at various locations in Oregon and Washington in November 2007. We are supplementing those meetings with two additional public meetings in Oregon on the dates, time, and locations listed below:

Date and time | Location
Monday, November 5, 2007, 6:30 p.m. (PST) | Clatskanie Middle/High School Auditorium, 471 SW Belair Dr., Clatskanie, OR 97016; Telephone: 503-728-2146.
Tuesday, November 6, 2007, 9 a.m. (PST) | Clatskanie River Inn—Cedar Room, 600 E. Columbia River Highway, Clatskanie, OR 97016; Telephone: 503-728-9000.

These events are posted on the Commission's calendar located at http://www.ferc.gov/EventCalendar/EventsList.aspx along with other related information. For additional information, please contact the Commission's Office of External Affairs at 1-866-208-FERC.

Kimberly D. Bose,
Secretary.

[FR Doc. E7-21483 Filed 10-31-07; 8:45 am]

BILLING CODE 6717-01-P